DEPARTMENT OF HEALTH AND HUMAN SERVICES

Centers for Disease Control and Prevention

Meeting of the Community Preventive Services Task Force (CPSTF)

AGENCY: Centers for Disease Control and Prevention (CDC), Department of Health and Human Services (HHS).

ACTION: Notice of meeting.

SUMMARY: The CDC within the HHS announces the next meeting of the CPSTF on February 12, 2020.

DATES: The meeting will be held on Wednesday, February 12, 2020, from 8:30 a.m. to 5:00 p.m. EST.

ADDRESSES: The CPSTF meeting will be held via web conference. Information regarding meeting logistics will be available on the Community Guide website (www.thecommunityguide.org) closer to the date of the meeting.

FOR FURTHER INFORMATION CONTACT: Onslow Smith, Community Guide Office, Centers for Disease Control and Prevention, 1600 Clifton Road NE, MS-E-69, Atlanta, GA 30329, phone: (404) 498-6778, email: CPSTF@cdc.gov.

SUPPLEMENTARY INFORMATION:

Meeting Accessibility: This CPSTF meeting will be a one-day session held virtually. The morning session will consist of internal CPSTF business related to its 2020 process for establishing its priority topics for 2021-2025. The afternoon session will consist of deliberation on systematic reviews of literature. The afternoon session is open to the public from 1:00 to 5:00 p.m. EST. All participants who would like to attend the afternoon session must register by 5:00 p.m. EST on Friday, February 7, 2020. Participants will receive registration confirmation with web conference meeting instructions within two business days.

To register for the afternoon session, individuals should send an email to CPSTF@cdc.gov and include the following information: Name, title, organization name, organization address, phone, email. CDC will email web conference information from the CPSTF@cdc.gov mailbox. Additional logistical information regarding this virtual meeting will be available on the Community Guide website (www.thecommunityguide.org) closer to the date of the meeting.

Public Comment: Individuals who would like to make public comments must indicate their desire to do so with their registration by providing their name, organizational affiliation, and the topic to be addressed (if known). The requestor will receive instructions for the public comment process for this virtual meeting after the request is received. A public comment period follows the CPSTF's discussion of each systematic review and is limited to three minutes per person. Public comments will become part of the meeting summary.

Background on the CPSTF: The CPSTF is an independent, nonfederal panel whose members are appointed by the CDC Director. CPSTF members represent a broad range of research, practice, and policy expertise in prevention, wellness, health promotion, and public health. The CPSTF was convened in 1996 by the HHS to identify community preventive programs, services, and policies that increase healthy longevity, save lives and dollars, and improve Americans' quality of life. CDC is mandated to provide ongoing administrative, research, and technical support for the operations of the CPSTF. During its meetings, the CPSTF considers the findings of systematic reviews of literature on existing research and practice-based evidence and issues recommendations. CPSTF recommendations are not mandates for compliance or resource allocation. Instead, they provide information about evidence-based options that decision makers and stakeholders can consider when they are determining what best meets the specific needs, preferences, available resources, and constraints of their jurisdictions and constituents. The CPSTF's recommendations, along with the systematic reviews of the evidence on which they are based, are compiled in the The Community Guide.

Matters proposed for discussion: The CPSTF will discuss the 2020 process for establishing its priority topics for 2021-2025 during a closed session the first half of the day. During the afternoon session which is open to the public, the CPSTF will deliberate on systematic reviews of literature related to the following: HIV Prevention: Clinical Decision Support Systems to Increase HIV Screening; Cardiovascular Disease Prevention and Control: Economics of Pharmacy-Based Interventions to Increase Medication Adherence; and one or more proposals for new reviews in the areas of mental health, sleep health, tobacco prevention and control. The agenda is subject to change without prior notice; however, agenda updates will be posted on the the Community Guide website (www.thecommunityguide.org).

Dated: January 27, 2020.
Sandra Cashman,
Executive Secretary, Centers for Disease Control and Prevention.

[FR Doc. 2020-01732 Filed 1-29-20; 8:45 am]

BILLING CODE 4163-18-P